DEPARTMENT OF JUSTICE

[AAG/A Order No. 001/2017]

Privacy Act of 1974; Matching Program

AGENCY: Department of Justice, Justice Management Division, Debt Collection Management Staff.

ACTION: Notice of re-establishment of a matching program.

SUMMARY: The Department of Justice (DOJ) is issuing a public notice of its intent to re-establish a matching program with the Internal Revenue Service (IRS), the Department of the Treasury. Under this matching program, entitled Taxpayer Address Request (TAR), the IRS will provide information relating to taxpayers' mailing addresses to DOJ for purposes of enabling DOJ to locate debtors to initiate litigation and/or enforce the collection of debts owed by taxpayers to the United States.

This notice is issued in accordance with the Privacy Act of 1974 (5 U.S.C. 552a), as amended by the Computer Matching and Privacy Protection Act of 1988 (Pub. L. 100-503), Office of Management and Budget (OMB) Guidelines on the Conduct of Matching Programs 54 FR 25818 (June 19, 1989), OMB Bulletin 89-22, “Instructions on Reporting Computer Matching Programs to the Office of Management and Budget (OMB), Congress and the Public,” and OMB Circular No. A-108, “Federal Agency Responsibilities for Review, Reporting, and Publication under the Privacy Act,” Revised December 23, 2016.

DATES: Effective date: The matching program will become effective 30 days after publication of this notice in the Federal Register, if no comments have been received from interested members of the public requiring modification and republication of the notice. The matching program will continue for 18 months after the effective date and may be extended for an additional 12 months, if the respective agency Data Integrity Boards (DIBs) determine that the conditions specified in 5 U.S.C. 552a(o)(2)(D) have been met.

ADDRESSES: Interested persons are invited to submit written comments regarding this notice to Dennis Dauphin, Director, Debt Collection Management Staff, Justice Management Division, 145 N St. NE., Rm 6W.102, Washington, DC 20530 or email to Eric.L.Nelson@usdoj.gov.

FOR FURTHER INFORMATION CONTACT: Eric Nelson, Debt Collection Management Staff, Justice Management Division, 145 N St. NE., Rm 6W.212, Washington, DC 20530 or email to Eric.L.Nelson@usdoj.gov.

SUPPLEMENTARY INFORMATION: Notice of Procedures—IRS provides direct notice to taxpayers in the instructions to Forms 1040, 1040A, and 1040EZ, and constructive notice in the Federal Register system of records notice for records involved in this matching program, that information provided on U.S. Individual Income Tax Returns may be given to other Federal agencies, as provided by law. For the records involved in this match, both IRS and DOJ have provided constructive notice to record subjects through the publication, in the Federal Register, of systems of records notices that contain routine uses permitting disclosures for this matching program.

In addition, a draft copy of this Notice and of the matching agreement, as approved by the DIB of each agency, has been provided to the Committee on Government Reform of the House of Representatives, the Committee on Homeland Security and Governmental Affairs of the Senate, and the Office of Management and Budget for Review.

Participating Agencies:

Department of Justice and the Department of the Treasury.

Authority for Conducting the Matching Program:

This matching program is being conducted under the authority of the Internal Revenue Code (IRC) 6103(m)(2), and the routine uses published in the agencies' Privacy Act systems notices for the systems of records used in this match. This provides for disclosure, upon written request, of a taxpayer's mailing address for use by officers, employees, or agents of a Federal agency for the purpose of locating such taxpayer to collect or compromise a Federal claim against the taxpayer in accordance with sections 3711, 3717, and 3718 of title 31 of the United States Code, statutory provisions which authorize DOJ to collect debts on behalf of the United States through litigation.

Purpose(s):

The purpose of this program is to provide DOJ with the most current addresses of taxpayers, to notify debtors of legal actions that may be taken by DOJ and the rights afforded them in the litigation, and to enforce collection of debts owed to the United States.

Categories of Individuals:

Individuals whose information is included in this matching program include: From DOJ's System of Records, individuals indebted to the United States who have [. . .] allowed their debts to become delinquent and whose delinquent debts have been referred to a DOJ litigating division, a United States Attorney Office, or to contract private counsel retained by DOJ, for settlement or enforced collection through litigation; and, from Treasury's System of Records, individuals who file Federal Individual Income Tax Returns.

Categories of Records:

Records involved in the matching program and the specific data elements that will be matched are as follows: DOJ will submit the nine-digit SSN and four-character Name Control (the first four letters of the surname) of each individual whose current address is requested. IRS will provide an address for each taxpayer whose SSN and Name Control matches the record submitted by DOJ, or a code explaining that no match was found.

System(s) of Records:

DOJ will provide records from the Debt Enforcement System, JUSTICE/DOJ-016, last published in its entirety at 77 FR 9965-9968 (February 21, 2012). This system of records contains information on persons who owe debts to the United States and whose debts have been referred to the DOJ for litigation and/or enforced collection. DOJ records will be matched against records contained in Treasury's Privacy Act System of Records: Customer Account Data Engine (CADE) Individual Master File (IMF), Treasury/IRS 24.030, last published at 80 FR 54082 (Sep. 8, 2015). This system of records contains, among other information, the taxpayer's name, SSN, and most recent address known by IRS.

Dated: June 20, 2017.
Lee Lofthus,
Assistant Attorney General for Administration.

[FR Doc. 2017-13625 Filed 6-28-17; 8:45 am]

BILLING CODE 4410-CN-P